SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 27, 2009.

ADDRESSES: Send all comments regarding whether these information collections are necessary for the proper performance of the function of the agency, whether the burden estimates are accurate, and if there are ways to minimize the estimated burden and enhance the quality of the collection, to Carol Fendler, Systems Accountant, Office of Investment, Small Business Administration, 409 3rd Street, 6th Floor, Washington, DC 20416.

FOR FURTHER INFORMATION CONTACT: Carol Fendler, Systems Accountant, Office of Investments, 202-205-7559, carol.fendler@sba.gov, Curtis B. Rich, Management Analyst, 202-205-7030, curtis.rich@sba.gov.

SUPPLEMENTARY INFORMATION: This form is used by SBA examiners to obtain information about financing provided by small business investment companies (SBICs). This information which is collected directly from the financial small businesses, provides independent confirmation of information respond to SBA by SBICs, as additional information not reported by SBICs.

Title: “Request for Information Concerning Portfolio Financing.”

Description of Respondents: SBIC Investment Companies.

Form Number: 857.

Annual Responses: 2,160.

Annual Burden: 2,160.

SUPPLEMENTARY INFORMATION: This form is used by SBA examiners to obtain information about assets of Small Business investment companies (SBICs) that are held in accounts at financial institutions, and about SBIC borrowings from financial institutions. This information, which is collected directly from the financial institutions, provides independent confirmation of asset and liability figures reported to SBA by SBICs as well as supplemental information used to evaluate regulatory compliance and financial condition.

Title: “Financial Institution Confirmation Form.”

Description of Respondents: SBIC Investment Companies.

Form Number: 860.

Annual Responses: 1,500.

Annual Burden: 750.

ADDRESSES: Send all comments regarding whether this information collection is necessary for the proper performance of the function of the agency, whether the burden estimates are accurate, and if there are ways to minimize the estimated burden and enhance the quality of the collection, to Rachel Newman Karton, Program Analyst, Office of Small Business Development Centers, Small Business Administration, 409 3rd Street, 6th Floor, Washington, DC 20416.

FOR FURTHER INFORMATION CONTACT: Rachel Newman Karton, Program Analyst, Office of Small Business Development Centers, 202-619-1816, rachel.newman@sba.gov, Curtis B. Rich, Management Analyst, 202-205-7030, curtis.rich@sba.gov.

SUPPLEMENTARY INFORMATION: This form is used to measure the quality and impact of counseling provided by SBA's resource partner the Small Business Development Centers (SBDCs). The SBDC State Director and the Project Officer reviews the forms to determine if the client received satisfactory counseling services.

Title: “SBA Counseling Evaluation.”

Description of Respondents: Small Business Clients.

Form Number: 1419.

Annual Responses: 15,000.

Annual Burden: 2,550.

Jacqueline White,
Chief, Administrative Information Branch.

[FR Doc. E9-12134 Filed 5-22-09; 8:45 am]

BILLING CODE 8025-01-P